NATIONAL AERONAUTICS AND SPACE ADMINISTRATION

[Notice 01-017]

Information Collection: Submission for OMB Review, Comment Request

AGENCY: National Aeronautics and Space Administration (NASA).

ACTION: Notice of Agency Report Forms Under OMB Review.

SUMMARY: The National Aeronautics and Space Administration has submitted to the Office of Management and Budget (OMB) the following proposal for the collection of information under the provisions of the Paperwork Reduction Act (44 U.S.C. Chapter 35).

DATES: Comments on this proposal should be received on or before February 21, 2001.

ADDRESSES: All comments should be addressed to Mr. Brian Dunbar, Code PM, National Aeronautics and Space Administration, Washington, DC 20546.

FOR FURTHER INFORMATION CONTACT: Ms. Carmela Simonson, Office of the Chief Information Officer, (202) 358-1223.

Reports: None.

Title: Voluntary Response Survey of NASA Internet Customers.

OMB Number: 2700-.

Type of review: New.

Need and Uses: NASA is seeking input from Internet users that they will use to redesign the NASA Home Page, the NASA-wide Search Engine and other Internet offerings so that the NASA Web is more customer-focused and provides users with the information they are seeking more quickly.

Affected Public: Individuals or households.

Number of Respondents: 100.

Responses Per Respondent: 4.

Annual Responses: 400.

Hours Per Request: 15 min.

Annual Burden Hours: 100.

Frequency of Report: Quarterly.

David B. Nelson,
Deputy Chief Information Officer, Office of the Administrator.

[FR Doc. 01-1777 Filed 1-19-01; 8:45 am]

BILLING CODE 7510-01-P